DEPARTMENT OF AGRICULTURE

Farm Service Agency

Request for Reinstatement and Revision of a Previously Approved Information Collection

AGENCY: Farm Service Agency, USDA.

ACTION: Notice and request for comments.

SUMMARY: In accordance with the Paperwork Reduction Act of 1995, this notice announces the Farm Service Agency's (FSA) intention to request a reinstatement and revision of a previously approved collection. This information is used to support FSA in conducting business and accepting signatures on certain documents from individuals acting on behalf of others.

DATES: Comments on this notice must be received on or before July 18, 2003 to be assured of consideration.

FOR FURTHER INFORMATION CONTACT: Virgil Ireland, Agricultural Program Specialist, Emergency Preparedness and Program Branch, Production, Emergencies, and Compliance Division, FSA, at (202) 720-5103.

SUPPLEMENTARY INFORMATION: Title: Power of Attorney (7 CFR part 718).

OMB Control Number: 0560-0190.

Type of Request: Reinstatement and revision of a previously approved information collection.

Abstract: Individuals or authorized representatives of entities wanting to appoint another to act as their attorney-in-fact in connection with certain FSA, Commodity Credit Corporation (CCC), and Risk Management Agency (RMA) programs and related actions must complete a Power of Attorney form (FSA-211). The FSA-211 serves as evidence that the grantor has appointed another to act on their behalf for certain FSA, CCC, and RMA programs and related actions, giving the appointee legal authority to enter into binding agreements on the grantor's behalf.

The FSA-211 also provides FSA, CCC, and RMA a source to verify an individual's authority to sign and act for another in the event of errors or fraud that require legal remedies. The information collected on the FSA-211 is limited to the grantor's name, signature and identification number, the grantee's name and address, and the applicable FSA, CCC, and RMA programs.

Estimate of Respondent Burden: Public reporting burden for this collection of information is estimated to average .25 hours per response.

Respondents: Individuals or authorized representatives of entities, such as corporations, wanting to appoint an attorney-in-fact to act on their behalf.

Estimated Number of Respondents: 519,653.

Estimated Number of Annual Responses per Respondent: 1.

Estimated Total Annual Burden on Respondents: 129,913.

Proposed topics for comment include: (a) Whether the collection of information is necessary for the proper performance of the functions of the USDA service center; (b) the agency's estimate of burden; (c) methods to enhance the usefulness of the information collected; or (d) ways to minimize the burden of the collection of the information on those who respond. Comments must be sent to the Desk Officer for Agriculture, Office of Information and Regulatory Affairs, Office of Management and Budget, Washington, DC 20503, and to Virgil Ireland, Agricultural Program Specialist, USDA-FSA-PECD, STOP 0517, 1400 Independence Avenue, SW., Washington, DC 20250; telephone (202) 720-5103; or fax (202) 690-3632. Copies of the information collection may be obtained from Mr. Ireland at the above address.

All responses to this notice will be summarized and included in the request for OMB approval. All comments will also become a matter of public record.

Signed at Washington, DC on May 12, 2003.
James R. Little,
Administrator, Farm Service Agency.

[FR Doc. 03-12388 Filed 5-16-03; 8:45 am]

BILLING CODE 3410-05-P